DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action takes effect on the date listed in Supplementary Information.

FOR FURTHER INFORMATION CONTACT: OFAC: Associate Director for Global Targeting, tel: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (https://www.treasury.gov/ofac).

Notice of OFAC Action(s)

On September 10, 2024, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

Individuals

1. HERRERA MEDINA, Brandon Ernesto, Mexico; DOB 01 Aug 1993; POB Veracruz, Mexico; nationality Mexico; Gender Male; C.U.R.P. HEMB930801HVZRDR05 (Mexico) (individual) [ILLICIT-DRUGS-EO14059].

Determined to meet the criteria for imposition of sanctions pursuant to section (1)(b)(iii) of Executive Order 14059 of December 15, 2021, “Imposing Sanctions on Foreign Persons Involved in the Global Illicit Drug Trade,” 86 FR 71549 (December 17, 2021) (E.O. 14059) for having acted or purported to act for or on behalf of, directly or indirectly, Ivan Cazarin Molina, a person sanctioned pursuant to E.O. 14059.

2. CAZARIN MOLINA, Cesar (a.k.a. “DELGADO RENTERIA, Victor Hugo”; a.k.a. “TORNADO”), Mexico; DOB 06 Feb 1980; POB Veracruz, Mexico; nationality Mexico; Gender Male; C.U.R.P. CAMC800206HVZZLS07 (Mexico) (individual) [ILLICIT-DRUGS-EO14059].

Determined to meet the criteria for imposition of sanctions pursuant to section (1)(b)(iii) of E.O. 14059 for having acted or purported to act for or on behalf of, directly or indirectly, Cartel De Jalisco Nueva Generacion, a person sanctioned pursuant to E.O. 14059.

3. CAZARIN MOLINA, Ivan (a.k.a. “DELGADO RENTERIA, Victor Hugo”; a.k.a. “EL TANQUE”), Mexico; DOB 15 Oct 1984; POB Veracruz, Mexico; nationality Mexico; Gender Male; C.U.R.P. CAMI841015HVZZLV05 (Mexico) (individual) [ILLICIT-DRUGS-EO14059].

Determined to meet the criteria for imposition of sanctions pursuant to section (1)(b)(iii) of E.O. 14059 for having acted or purported to act for or on behalf of, directly or indirectly, Cartel De Jalisco Nueva Generacion, a person sanctioned pursuant to E.O. 14059.

4. MEDINA DIAZ, Domingo (a.k.a. “EL MINGO”), Mexico; DOB 19 Nov 1961; POB Guerrero, Mexico; nationality Mexico; Gender Male; C.U.R.P. MEDD611119HGRDZM01 (Mexico) (individual) [ILLICIT-DRUGS-EO14059].

Determined to meet the criteria for imposition of sanctions pursuant to section (1)(b)(iii) of E.O. 14059 for having acted or purported to act for or on behalf of, directly or indirectly, Cartel De Jalisco Nueva Generacion, a person sanctioned pursuant to E.O. 14059.

5. ALVARADO CASTILLO, Gerardo, Mexico; DOB 06 Jul 1988; POB Veracruz, Mexico; nationality Mexico; Gender Male; C.U.R.P. AACG880706HVZLSR00 (Mexico) (individual) [ILLICIT-DRUGS-EO14059].

Determined to meet the criteria for imposition of sanctions pursuant to section (1)(b)(iii) of E.O. 14059 for having acted or purported to act for or on behalf of, directly or indirectly, Cartel De Jalisco Nueva Generacion, a person sanctioned pursuant to E.O. 14059.

6. CAZARIN RAMOS, Jahir, Mexico; DOB 18 Mar 1998; POB Veracruz, Mexico; nationality Mexico; Gender Male; C.U.R.P. CARJ980318HVZZMH01 (Mexico) (individual) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

7. RODRIGUEZ HERNANDEZ, Jose Saul, Mexico; DOB 05 Oct 1968; POB Oaxaca, Mexico; nationality Mexico; Gender Male; C.U.R.P. ROHS681005HOCDRL06 (Mexico) (individual) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

8. RIVERA GARCIA, Patricia, Mexico; DOB 13 Mar 1976; POB Veracruz, Mexico; nationality Mexico; Gender Female; C.U.R.P. RIGP760313MVZVRT00 (Mexico) (individual) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

9. ESTRADA MEDINA, Santos Aldair, Mexico; DOB 30 Apr 1994; POB Veracruz, Mexico; nationality Mexico; Gender Male; C.U.R.P. EAMS940430HVZSDN07 (Mexico) (individual) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

Entities

1. AHORROCOMBUSTIBLES DE VERACRUZ, S.A. DE C.V., Veracruz, Veracruz, Mexico; Organization Established Date 31 May 2021; Organization Type: Retail sale of automotive fuel in specialized stores; Folio Mercantil No. N-2021040072 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

2. BIOCOMBUSTIBLES EL JICARO, S.A. DE C.V., Veracruz, Veracruz, Mexico; Organization Established Date 04 Sep 2019; Organization Type: Retail sale of automotive fuel in specialized stores; Folio Mercantil No. N-2020007868 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

3. CARBURANTES DOS OCEANOS, S.A. DE C.V., Veracruz, Veracruz, Mexico; Organization Established Date 23 Jun 2020; Organization Type: Retail sale of automotive fuel in specialized stores; Folio Mercantil No. N-2021005612 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

4. COMBUSTIBLES EVOLUTIVOS Y ALTERNATIVOS DOS OCEANOS, S.A. DE C.V., Veracruz, Veracruz, Mexico; Organization Established Date 23 Jun 2020; Organization Type: Retail sale of automotive fuel in specialized stores; Folio Mercantil No. N-2021005609 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

5. DOS OCEANOS COMBUSTIBLES Y CARBURANTES, S.A. DE C.V., Veracruz, Veracruz, Mexico; Organization Established Date 23 Jun 2020; Organization Type: Retail sale of automotive fuel in specialized stores; Folio Mercantil No. N-2021006218 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

6. DOS OCEANOS PASO DEL TORO, S.A. DE C.V., Medellin del Bravo, Veracruz, Mexico; Organization Established Date 20 Sep 2003; Organization Type: Retail sale of automotive fuel in specialized stores; Folio Mercantil No. 62 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

7. ECONOCOMBUSTIBLES DE VERACRUZ, S.A. DE C.V., Veracruz, Veracruz, Mexico; Organization Established Date 31 May 2021; Organization Type: Retail sale of automotive fuel in specialized stores; Folio Mercantil No. N-2021040073 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

8. ETANOFUEL, S.A. DE C.V. (a.k.a. “G ENERGY”), Veracruz, Veracruz, Mexico; Organization Established Date 30 May 2015; Organization Type: Retail sale of automotive fuel in specialized stores; R.F.C. ETA150530HD4 (Mexico); Folio Mercantil No. 31222 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

9. MAGNOCOMBUSTIBLES DE VERACRUZ, S.A. DE C.V., Veracruz, Veracruz, Mexico; Organization Established Date 31 May 2021; Organization Type: Retail sale of automotive fuel in specialized stores; Folio Mercantil No. N-2021040063 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

10. MAQUINAS EDJA, S.A. DE C.V., Veracruz, Veracruz, Mexico; Organization Established Date 21 Apr 2022; Organization Type: Construction of other civil engineering projects; Folio Mercantil No. N-2022028425 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

11. RAPICOMBUSTIBLES DE VERACRUZ, S.A. DE C.V., Veracruz, Veracruz, Mexico; Organization Established Date 31 May 2021; Organization Type: Retail sale of automotive fuel in specialized stores; Folio Mercantil No. N-2021040069 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

12. SUMINISTROS COMBUSTIBLES OCEANOS, S.A. DE C.V., Veracruz, Veracruz, Mexico; Organization Established Date 23 Jul 2020; Organization Type: Retail sale of automotive fuel in specialized stores; Folio Mercantil No. N-2021006217 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

13. TRAVER PERMISIONARIOS, S.A. DE C.V., Veracruz, Veracruz, Mexico; Organization Established Date 07 Aug 2019; Organization Type: Transportation and storage; Folio Mercantil No. N-2019067788 (Mexico) [ILLICIT-DRUGS-EO14059].

Determined to meet the criteria for imposition of sanctions pursuant to section (1)(b)(iii) of E.O. 14059 for having acted or purported to act for or on behalf of, directly or indirectly, Ivan Cazarin Molina, a person sanctioned pursuant to E.O. 14059.

14. 3D MODERN PRINTING PRESS, Veracruz, Veracruz, Mexico; Organization Established Date 15 Dec 2020; Organization Type: Service activities related to printing; Folio Mercantil No. N-2020081004 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

15. ACEITES Y LUBRICANTES MAYE, S.A. DE C.V., Veracruz, Veracruz, Mexico; Organization Established Date 02 Mar 2016; Organization Type: Retail sale of automotive fuel in specialized stores; RFC ALM160302SR9 (Mexico); Folio Mercantil No. N-2016002888 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

16. ADITIVOS Y SUMINISTROS ETANOFUEL, S.A. DE C.V., Veracruz, Veracruz, Mexico; Organization Established Date 14 May 2019; Organization Type: Retail sale of automotive fuel in specialized stores; Folio Mercantil No. N-2019045850 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

17. COMBUSTIBLES Y LUBRICANTES MAYE, S.A. DE C.V., Calle Ursulo Galvan Num. 360, Colonia Las Bajadas, Alvarado, Veracruz, Mexico; Organization Established Date 06 Apr 2015; Organization Type: Retail sale of automotive fuel in specialized stores; Folio Mercantil No. 31142 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

18. COMERCIALIZADORA BAGUETTE KLIC, S.A. DE C.V., Veracruz, Veracruz, Mexico; Organization Established Date 19 May 2016; Organization Type: Other food service activities; Folio Mercantil No. N-2016007450 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

19. COMERCIALIZADORA COFFE KLIC, S.A. DE C.V., Veracruz, Veracruz, Mexico; Organization Established Date 19 May 2016; Organization Type: Beverage serving activities; Folio Mercantil No. N-2016007451 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

20. CONSTRUCTORA JJESA S.A. DE C.V., Veracruz, Veracruz, Mexico; Organization Established Date 09 Jul 1993; Organization Type: Construction of other civil engineering projects; Folio Mercantil No. 16996 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

21. ETANOPLUS, S.A. DE C.V., Calle ursulo galvan numero 360, Colonia Las Bajadas, Alvarado, Veracruz, Mexico; Organization Established Date 30 May 2015; Organization Type: Retail sale of automotive fuel in specialized stores; Folio Mercantil No. 31223 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

22. MAXI-GASOIL SERVICIOS, S.A. DE C.V., Veracruz, Veracruz, Mexico; Organization Established Date 07 Aug 2018; Organization Type: Retail sale of automotive fuel in specialized stores; Folio Mercantil No. N-2018066203 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

23. MAYEGAS, S.A. DE C.V., Calle ursulo galvan numero 360, Colonia las Bajadas, Alvarado, Veracruz, Mexico; Organization Established Date 06 Apr 2015; Organization Type: Retail sale of automotive fuel in specialized stores; Folio Mercantil No. 31143 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

24. MULTISERVICIOS EN COMBUSTIBLE MAYE DE VERACRUZ, S.A. DE C.V., Jamapa, Veracruz, Mexico; Organization Type: Retail sale of automotive fuel in specialized stores; Folio Mercantil No. 29059 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

25. SUPER TIENDAS KLIC, S.A. DE C.V., Veracruz, Veracruz, Mexico; Organization Established Date 19 May 2016; Organization Type: Other food service activities; Folio Mercantil No. N-2016007452 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

26. VERACRUZANA DE SERVICIOS HOTELEROS Y GASTRONOMICOS LOS ANGELES, S.A. DE C.V. (a.k.a. “HOTEL ANGELES”), Carr. Fed. Santa Fe—San Julian Km. 4, Col. Santa Fe, Veracruz, Veracruz 91690, Mexico; Organization Established Date 01 Aug 2012; Organization Type: Restaurants and mobile food service activities; RFC VSH1208019D1 (Mexico); Folio Mercantil No. 29001 (Mexico) [ILLICIT-DRUGS-EO14059].

Determined to meet the criteria for imposition of sanctions pursuant to section (1)(b)(iii) of E.O. 14059 for having acted or purported to act for or on behalf of, directly or indirectly, Jose Saul Rodriguez Hernandez, a person sanctioned pursuant to E.O. 14059.

Dated: September 10, 2024.
Lisa M. Palluconi,
Acting Director, Office of Foreign Assets Control, U.S. Department of the Treasury.

[FR Doc. 2024-20853 Filed 9-12-24; 8:45 am]

BILLING CODE P